DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2004 National Survey on Drug Use and Health—(OMB No. 0930-0110, Revision)—The National Survey on Drug Use and Health (NSDUH), formerly the National Household Survey on Drug Abuse (NHSDA), is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

As with all NSDUH/NHSDA surveys conducted since 1999, the sample size of the survey for 2004 will be sufficient to permit prevalence estimates for each of the fifty states and the District of Columbia. No questionnaire changes are planned for the 2004 NSDUH. The total annual burden estimate is shown below:

| No. of responses | Responses per respondent | Average burden per response (hr.) | Total burden (hrs)
Household Screening | 182,250 | 1 | 0.083 | 15,127
Interview | 67,500 | 1 | 1.0 | 67,500
Screening Verification | 5,559 | 1 | 0.067 | 372
Interview Verification | 10,125 | 1 | 0.067 | 678
Total | 182,259 |  |  | 83,677

Send comments to Nancy Pearce, SAMHSA Reports Clearance Officer, Room 16-105, Parklawn Building, 5600 Fishers Lane, Rockville, MD 20857. Written comments should be received within 60 days of this notice.

Dated: April 21, 2003.
Richard Kopanda,
Executive Officer, SAMHSA.

[FR Doc. 03-10225 Filed 4-24-03; 8:45 am]

BILLING CODE 4162-20-P